DEPARTMENT OF HOMELAND SECURITY

Coast Guard

[Docket No. USCG-2006-23846-0042]

Consolidated Cruise Ship Security Regulations

AGENCY: Coast Guard, DHS.

ACTION: Notice of availability.

SUMMARY: The Coast Guard announces the availability of an updated Prohibited Items List (PIL) for Cruise Vessels. On March 19, 2018, the Coast Guard published the Consolidated Cruise Ship Security Regulations Final Rule (FR) and issued a PIL of dangerous substances and devices. The Coast Guard referenced ammunition in the Notice of Proposed Rulemaking (NPRM) published on December 10, 2014, and the Final Rule, but inadvertently omitted ammunition from the separate PIL document that was included in the docket. The updated PIL is posted on the U.S. Coast Guard Homeport website.

FOR FURTHER INFORMATION CONTACT: For information about this document call or email the Cargo and Facilities Division (CG-FAC-2), 202-372-1092, cgfac@uscg.mil.

SUPPLEMENTARY INFORMATION: In connection with the Consolidated Cruise Ship Security Regulations Final Rule (83 FR 12086), the Coast Guard developed a PIL that was similar, but not identical to, one that is used by the Transportation Security Administration (TSA) at airports, which defines certain items that cannot not be brought on board a cruise ship by passengers on their persons or in checked luggage. In the NPRM (79 FR 73255), the Coast Guard explained that prohibiting the items listed on the PIL was not intended to be a new requirement, but rather an interpretation of the existing requirement, which is located in 33 CFR 104.295(a) and 105.290(a), that cruise ship and cruise ship terminal operators “[s]creen all persons, baggage, and personal effects for dangerous substances and devices.” Considering that the definition of “dangerous substances and devices” in 33 CFR 101.105 means “any material, substance, or item that reasonably has the potential to cause a transportation security incident [TSI]”, the Coast Guard published the PIL as an interpretive document indicating which items the Coast Guard believes are “dangerous substances and devices” at all times, while other items may or may not be considered such at the Facility Security Officer's discretion. The Coast Guard notes that cruise ship operators are free to prohibit additional items on their vessels if they believe they are dangerous, or for any other reason, and also notes that most cruise lines already advertise lists of prohibited items that are extremely similar to, if not more extensive than, the published PIL.

The presence of ammunition in secured areas of cruise ship terminals and unsecured areas on cruise vessels represents a significant threat to cruise ship passengers and the maritime transportation personnel who service them. The Coast Guard decided to published an updated list, including ammunition, due to an increase in the number of reports of bulk quantities of ammunition (>100 rounds) detected by screeners at cruise terminals as well as reports of ammunition successfully eluding security countermeasures and being identified aboard cruise vessels.

The publication of an updated PIL details those items that are prohibited from secured areas in cruise terminals and unsecured areas on cruise vessels and ensures a safer environment by prohibiting dangerous items across the entire industry.

This notice is issued under authority of 5 U.S.C. 552(a).

Dated: March 27, 2019.
Jennifer F. Williams,
Captain, U.S. Coast Guard, Director of Inspections and Compliance.

[FR Doc. 2019-06310 Filed 4-1-19; 8:45 am]

BILLING CODE 9110-04-P